NUCLEAR REGULATORY COMMISSION

SUNSHINE FEDERAL REGISTER NOTICE

AGENCY HOLDING THE MEETINGS: Nuclear Regulatory Commission.

DATE: Week of July 24, 2006.

PLACE: Commissioners' Conference Room, 11555 Rockville Pike, Rockville, Maryland.

STATUS: Public and Closed.

Additional Matters To Be Considered

Week of July 24, 2006

Thursday, July 27, 2006

3 p.m. Discussion of Management Issues (closed—ex. 2).

* * * * *

*The schedule for Commission meetings is subject to change on short notice. To verify the status of meetings call (recording)—(301) 415-1292. Contact person for more information: Michelle Schroll, (301) 415-1662.

* * * * *

Additional Information

By a vote of 5-0 on July 24 and 25, 2006, the Commission determined pursuant to U.S.C. 552b(e) and § 9.107(a) of the Commission's rules that “Discussion of Management Issues (closed—ex 2)” be held July 27, 2006 and by a vote of 4-1 that the meeting be held on less than one week's notice to the public. Commissioner Jaczko did not vote to hold the meeting on short notice.

* * * * *

The NRC Commission Meeting Schedule can be found on the Internet at: www.nrc.gov/what-we-do/policy-making/schedule.html.

* * * * *

The NRC provides reasonable accommodation to individuals with disabilities where appropriate. If you need a reasonable accommodation to participate in these public meetings, or need this meeting notice or the transcript or other information from the public meetings in another format (e.g., braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc,gov,

Dated: July 26, 2006
Sandy Joosten,
Office of the Secretary.

[FR Doc. 06-6613 Filed 7-27-06; 12:58 pm]

BILLING CODE 7590-01-M